DEPARTMENT OF THE TREASURY

Internal Revenue Service

26 CFR Part 25

[REG-163679-02]

RIN 1545-BB72

Qualified Interest; Hearing

AGENCY: Internal Revenue Service (IRS), Treasury.

ACTION: Cancellation of notice of public hearing on proposed rulemaking.

SUMMARY: This document provides notice of cancellation of a public hearing on proposed rulemaking relating to the gift tax special valuation rules.

DATES: The public hearing originally scheduled for Thursday, October 28, 2004, at 10 a.m. is cancelled.

FOR FURTHER INFORMATION CONTACT: Guy R. Traynor, Procedures and Administration, Publications & Regulations Branch, at (202) 622-3693 (not a toll-free number).

SUPPLEMENTARY INFORMATION: A notice of proposed rulemaking and notice of public hearing that appeared in the Federal Register on Monday, July 26, 2004 (69 FR 44476), announced that a public hearing was scheduled for October 28, 2004 at 10 a.m., in the auditorium of the Internal Revenue Service building, 1111 Constitution Avenue, NW., Washington, DC. The subject of the public hearing is proposed regulations under section 2702 of the Internal Revenue Code. The public comment period for these proposed regulations expired on October 25, 2004.

The notice of proposed rulemaking and notice of public hearing, instructed those interested in testifying at the public hearing to submit a request to speak and an outline of topics to be addressed by October 7, 2004. As of October 25, 2004, no one has requested to speak. Therefore, the public hearing scheduled for October 28, 2004 is cancelled.

Guy R. Traynor,
Federal Register Liaison, Publications & Regulations Branch, Legal Processing Division, Associate Chief Counsel (Procedures & Administration).

[FR Doc. 04-24129 Filed 10-25-04; 2:01 pm]

BILLING CODE 4830-01-P